DEPARTMENT OF TRANSPORTATION

National Highway Traffic Safety Administration

49 CFR Part 571

[Docket No. NHTSA-2006-23651]

RIN 2127-AJ81

Federal Motor Vehicle Safety Standards; Controls, Telltales and Indicators

AGENCY: National Highway Traffic Safety Administration (NHTSA), Department of Transportation (DOT).

ACTION: Final rule; response to petitions for reconsideration.

SUMMARY: In a final rule of August 17, 2005, we updated our standard regulating motor vehicle controls, telltales and indicators. The standard specifies requirements for the location, identification, and illumination of these items. The rule extended the standard's telltale and indicator requirements to vehicles with a Gross Vehicle Weight Rating (GVWR) of 4,536 kg (10,000 pounds) and greater, updated the standard's requirements for multi-function controls and multi-task displays to make the requirements appropriate for advanced systems, and reorganized the standard to make it easier to read. In a document published on January 24, 2006, the effective date and compliance date for requirements applicable to vehicles under 4,536 kg (10,000 pounds) GVWR were extended to September 1, 2006.

In response to the August 17, 2005 final rule, we received four petitions for reconsideration, from three organizations. This final rule responds to those petitions.

DATES: Effective Date: The effective date of the rule amending 49 CFR 571.101 published at 70 FR 48295, August 17, 2005 was delayed until September 1, 2006 (at 71 FR 3786, January 24, 2006). The effective date of today's final rule is September 1, 2006.

Compliance date: The compliance date for the extension of the standard's telltale and indicator requirements to vehicles with a GVWR of 4,536 kg (10,000 pounds) or greater is September 1, 2013. The compliance date for S5.4.3 “Each symbol used for the identification of a telltale, control or indicator must be in a color that stands out clearly against the background” is September 1, 2011. The compliance date for all other requirements is September 1, 2006. Voluntary compliance is permitted before those dates.

Petitions for reconsideration: Petitions for reconsideration of this final rule must be received not later than June 29, 2006.

ADDRESSES: Petitions for reconsideration of the final rule must refer to the docket and notice number set forth above and be submitted to the Administrator, National Highway Traffic Safety Administration, 400 Seventh Street, SW., Washington, DC 20590, with a copy to Docket Management, Room PL-401, 400 Seventh Street, SW., Washington, DC 20590.

FOR FURTHER INFORMATION CONTACT: For non-legal issues you may call Ms. Gayle Dalrymple, Office of Crash Avoidance Standards at (202) 366-5559. Her FAX number is (202) 366-7002. For legal issues, you may call Ms. Dorothy Nakama, Office of the Chief Counsel at (202) 366-2992. Her FAX number is (202) 366-3820. You may send mail to both of these officials at National Highway Traffic Safety Administration, 400 Seventh St., SW., Washington, DC 20590.

SUPPLEMENTARY INFORMATION:

I. Background

NHTSA issued the original version of Federal Motor Vehicle Safety Standard (FMVSS) No. 101, Controls and Displays, in 1967 (32 FR 2408) as one of the initial FMVSSs. The standard applies to passenger cars, multipurpose passenger vehicles (MPVs), trucks, and buses. The purpose of FMVSS No. 101 is to assure the accessibility and visibility of motor vehicle controls and displays under daylight and nighttime conditions, in order to reduce the safety hazards caused by the diversion of the driver's attention from the driving task, and by mistakes in selecting controls.

At present, FMVSS No. 101 specifies requirements for the location (S5.1), identification (S5.2), and illumination (S5.3) of various controls and displays. It specifies that those controls and displays must be accessible and visible to a driver properly seated wearing his or her safety belt. Table 1, “Identification and Illumination of Controls,” and Table 2, “Identification and Illumination of Displays,” indicate which controls and displays are subject to the identification requirements, and how they are to be identified, colored, and illuminated.

A. August 17, 2005 Final Rule

In a final rule published in the Federal Register (70 FR 48295) on August 17, 2005, NHTSA amended FMVSS No. 101 by extending the standard's telltale and indicator requirements to vehicles of Gross Vehicle Weight Rating (GVWR) 4,536 kilograms (10,000 pounds) and over, updating the standard's requirements for multi-function controls and multi-task displays to make the requirements appropriate for advanced systems, and reorganizing the standard to make it easier to read. Table 1 and Table 2 continue to include only those symbols and words previously specified in the controls and displays standard or in another Federal motor vehicle safety standard. However, both Tables 1 and 2 were reorganized to make the symbols and words easier to find.

The final rule specified an effective date of February 13, 2006 for requirements applicable to passenger cars, multipurpose passenger vehicles, trucks and buses under 4,536 kg GVWR.

B. Extension of Effective Date

In a petition for reconsideration dated October 3, 2005, the Alliance of Automobile Manufacturers (Alliance) petitioned for a delay in the final rule's effective date to September 1, 2006 for new requirements applicable to passenger cars, multipurpose passenger vehicles, trucks and buses under 4,536 kg GVWR. After considering the petitioner's explanation for the need to maintain the status quo while NHTSA considered several petitions for reconsideration, NHTSA decided that it was in the public interest to grant the Alliance's petition. In a final rule published in the Federal Register (71 FR 3786) on January 24, 2006, NHTSA delayed the effective date of the final rule from February 13, 2006 to September 1, 2006.

II. Final Rule; Response to Petitions for Reconsideration

NHTSA received three petitions for reconsideration of the August 17, 2005 final rule, from the Truck Manufacturers Association (TMA), the Association of International Automobile Manufacturers (AIAM) and the Alliance. In general, the petitioners asked NHTSA to reconsider whether the words “Trailer ABS” or “Trailer Antilock” should be used in lieu of a symbol specified in Table 1, asked for reconsideration of whether symbols must have “proportional dimensional characteristics,” and for reconsideration of a requirement for color contrast between symbols and their backgrounds.

Reconsideration of interior illumination requirements was also requested. Finally, the Alliance raised issues about certain symbols and footnotes in Tables 1 and 2. The issues raised in the petitions, and NHTSA's response are addressed below.

A. Proportional Dimensional Characteristics for Identifiers

The August 17, 2005 final rule at S5.2.1 states: “If a symbol is used, each symbol provided pursuant to this paragraph must have the proportional dimensional characteristics of the symbol as it appears in Table 1 or Table 2.” The Alliance stated that the quoted S5.2.1 language is “more restrictive” than the previous requirement that the symbol be “substantially similar in form” to the one given in the table. The Alliance asked that NHTSA revert to the pre-August 17, 2005 description of the symbol.

NHTSA grants this part of the Alliance's petition. The final rule language was intended to preserve the aspect ratio of the graphic so that the graphic is identifiable in every vehicle. However, upon review, NHTSA has not seen examples of current vehicle models for which apparent differences between the “proportional dimensional characteristics of the symbol” requirement versus “substantially similar in form” requirement would raise issues. Since there are only 20 symbols in the amended Tables 1 and 2, we do not believe that continued use of the “substantially similar in form” requirement would result in any difference in practical application from a “proportional dimensional characteristics of the symbol” requirement.

B. Multiple Levels of Illumination for Controls and Indicators

The August 17, 2005, final rule at S5.3.2.1 addresses means of illuminating the indicators, identifications of indicators and identification of controls listed in Table 1 to make them visible to the driver under daylight and nighttime driving conditions. S5.3.2.2 in the August 17, 2005 final rule specifies that the means of providing the visibility required by S5.3.2.2(a) must be adjustable to provide at least two levels of brightness. S5.3.2.2(b) in the August 17, 2005 final rule states:

At the lower level of brightness, the identification of controls and indicators must be barely discernible to the driver who has adapted to dark ambient roadway condition;

The requirement that the August 17, 2005 final rule amended was:

S5.3.3(a) Means shall be provided for making controls, gauges, and the identification of those items visible to the driver under all driving conditions.

(b) The means for providing the required visibility—

(1) Shall be adjustable to provide at least two levels of brightness, one of which is barely discernible to a driver who has adapted to dark ambient roadway conditions.

(2) May be operable manually or automatically, and

(3) May have levels of brightness at which those items and identification are not visible.

The Alliance objected to S5.3.2.2(b) in the August 17, 2005 final rule, stating its belief that the existing 5.3.3(b)(1) which provided for “at least two levels of brightness, one of which is barely discernible * * *” meant that “one level of brightness must be barely discernible, not necessarily the lowest level.” If two levels are required, and one must be barely discernible, it is clearly not acceptable to have the other of the two required levels of brightness be lower than barely discernible (in other words, invisible).

The Alliance is correct; we note, however, S5.3.2.2 of the August 17, 2005 final rule is internally contradictory; S5.3.2.2(b) conflicts with S5.3.2.2(d), “May have levels of brightness at which those items and identifications are not visible.” S5.3.2.2(d), a holdover from the old standard, addresses the manual adjustment of brightness level by a rheostat which may turn beyond the point at which the brightness level goes to zero. The conflict between S5.3.2.2(b) and S5.3.2.2(d) is remedied by adding “visible” so that S5.3.2.2(a) reads: “Must be adjustable to provide at least two visible levels of brightness;” In this final rule, S5.3.2.2 is amended to read as follows. No changes are made to paragraphs (a) and (c). Corresponding changes are made to paragraphs (b) and (d) for clarity of the “visible brightness” issue:

S5.3.2.2 The means of providing the visibility required by S5.3.2.1:

(a) Must be adjustable to provide at least two visible levels of brightness;

(b) At a level of brightness other than the highest level, the identification of controls and indicators must be barely discernible to the driver who has adapted to dark ambient roadway condition;

(c) May be operable manually or automatically; and

(d) May have levels of brightness, other than the two required visible levels of brightness, at which those items and identification are not visible.

C. Sources of Occupant Compartment Illumination Forward of the H-Point

The August 17, 2005 final rule at S5.3.4 Brightness of interior lamps states:

Any source of illumination that is:

(a) Within the passenger compartment of a motor vehicle;

(b) Located in front of a transverse vertical plane 110 mm behind the H-point of the driver's seat while it in its rearmost driving position;

(c) Capable of being activated while the motor vehicle is in motion; and

(d) Neither a telltale nor a source of illumination used for the controls and indicators listed in Table 1 or Table 2, must have a means for the driver to turn off that source under the conditions of S5.6.2.

The Alliance and AIAM objected to the requirement that any source of illumination forward of the H-point in the occupant compartment be able to be turned off. Some manufacturers may not be able to meet the “must have a means for the driver to turn off that source” requirement in subparagraph (d) because some vehicles have light emitting diodes (LEDs) illuminating controls on the armrests and center consoles.

S5.3.4 was intended to cover sources of illumination such as dome lights, courtesy lights, and map lights, which are convenience lighting for the occupant compartment and are usually brighter than illumination of controls, telltales, and indicators, which must stay on while the vehicle is being driven. NHTSA notes that subparagraph (d) should have excluded all telltales, controls, and indicators, regardless whether they are specified in FMVSS No. 101, or are provided at the manufacturer's option. NHTSA will resolve this issue by reverting to the pre-August 17, 2005 language on this subject, which states:

(a) Any source of illumination within the passenger compartment which is forward of a transverse vertical plane 110 mm rearward of the manikin “H” point with the driver's seat in its rearmost driving position, which is not used for the controls and displays regulated by this standard, which is not a telltale, and which is capable of being illuminated while the vehicle is in motion, shall have either:

(1) Light intensity which is manually or automatically adjustable to provide at least two levels of brightness;

(2) A single intensity that is barely discernible to a driver who has adapted to dark ambient roadway conditions; or

(3) A means of being turned off.

(b) Paragraph (a) does not apply to buses that are normally operated with the passenger compartment illuminated.

The above quoted provision remains as S5.3.4, Brightness of interior lamps, which allows certain low intensity lamps within the driver's compartment that cannot be turned off by the driver.

However, NHTSA is aware of an apparent trend of manufacturers to incorporate a variety of low intensity lighting in vehicles to highlight and illuminate various interior items or areas, such as: Cup holders, door handles, foot areas, door pockets, center consoles, and the like. It is concerned that the combined effect of a sufficient number of these various illumination sources may detrimentally affect drivers' night vision and the ability to adapt to the “dark ambient roadway conditions.” It is also possible that some of these multiple illumination sources may reflect off interior glazing, and make it difficult to see beyond the reflection. NHTSA intends to monitor this trend in interior lighting for the possibility of safety problems.

D. Color Contrast Between Identifiers and Their Backgrounds

In the August 17, 2005 final rule, the requirement that each symbol must be in a color that stands out clearly against the background was extended to identifiers for controls and indicators (see S5.4.3). The Alliance asked for reconsideration of this requirement, stating that not all identifiers are in a color that stands out clearly against the background. The Alliance further stated that it is not needed, citing as an example the horn identifier. Most vehicle models use the horn symbol as the identifier, which is molded into the air bag cover, without a color “that stands out clearly against the background” filled in. The Alliance commented that: “The symbol is the same color as the background, but it can still be recognized because the embossment stands out against the background.”

NHTSA notes that over the years, agency staff have taken numerous telephone calls from drivers complaining that they cannot locate the horn control. NHTSA's Office of Defects Investigation ARTEMIS database has recorded 120 complaints from consumers reporting trouble locating the horn control in the past ten years. Of these 120 complaints, consumers reported 12 crashes, nine near misses, and an allegation of a fatality. For these reasons, filling in the horn symbol with a color “that stands out clearly against the background” would make the horn control more visible and would help drivers be able to more readily find the control. Thus, we are denying this part of the Alliance's petition.

To minimize costs on industry resulting from this requirement, NHTSA is delaying the compliance date to meet S5.4.3 for five years, to September 1, 2011. NHTSA agrees with the Alliance's recommendation for five years to implement S.5.4.3 to “allow manufacturers to implement the necessary changes on most products during the planned product changes in normal product development cycles.”

E. Prohibition Against Certain Telltales Sharing a Common Space

The final rule at S5.5.2 prohibits the telltales for any brake system malfunction, the air bag malfunction, the side air bag malfunction, low tire pressure, passenger air bag off, high beam, turn signal and seat belt from being shown in the same common space. The Alliance objected to the inclusion of brake system telltales other than those that are required to be red, and any side air bag malfunction telltale, from being included in the list of telltales specified at S5.5.2. The Alliance argued that “brake system malfunction” is overly broad and may include telltales voluntarily provided by the manufacturer. The Alliance further claimed that the inclusion of the side impact air bag telltale in S5.5.2 is inconsistent with a July 30, 1996 NHTSA interpretation letter to Porsche Cars North America.

Upon further review, the agency has been persuaded by the Alliance's comments. Thus, in this final rule, S5.5.2 is amended to limit the prohibition to brake system malfunctions required by Table 1 to be red. The side air bag malfunction telltale is removed.

F. Changes to Table 1

The Alliance and the TMA petitioned for several changes to Table 1. Some of the changes were on the order of technical corrections, others were substantive. The requests for changes, and NHTSA's responses are provided below.

Highbeam and Turn signals telltales—The Alliance petitioned that the highbeam and turn signals telltales in Table 1 be accompanied by a footnote indicating that there are additional requirements in FMVSS No. 108. NHTSA agrees that including the footnote would add clarity to the provisions for highbeam and turn signals telltales. In this final rule, we have added a new footnote 2 that states: “Additional requirements in FMVSS 108.”

Position, side marker, and/or end-outline marker lamps controls—Although described in Table 1 as position, side marker, and/or end-outline marker lamps controls, FMVSS No. 108 still refers to these lamps as side marker and clearance lamps. The Alliance petitioned that Table 1 reference the language in FMVSS No. 108.

In partial grant of the Alliance's petition, in this final rule, we amend the description of the item in column 1 to read: “Position, side marker, end-outline marker, identification, or clearance lamps.” The description now includes all possible names for these lamps and the way the identifier may be used.

Windshield wiping system (continuous)—The Alliance petitioned that the description of this item in column 1 in Table 1 revert to description used in the pre-August 17, 2005 version of Table 1.

The note “(continuous)” was proposed in the NPRM for the wiper to differentiate it from another identifier that was proposed for the interval wipe function. That other interval wipe function identifier was not adopted in the August 17, 2005 final rule. Thus, in Table 1 in the final rule, NHTSA should have removed the “(continuous)” note because manufacturers may use the windshield wiping system identifier for any wiper function (including continuous and interval) except wash/wipe. In this final rule, “(continuous)” is removed from column 1 of “Windshield wiping system.”

Brake system malfunction may include stop lamp failure—The Alliance stated its belief that the phrase “may include Stop Lamp failure” actually refers to an FMVSS No. 105 Hydraulic and electric brake systems requirement for systems that do not incorporate a split brake system to provide the following warning: “STOP—BRAKE FAILURE.” The Alliance therefore recommended removing “may include Stop Lamp failure” and adding “STOP-BRAKE FAILURE” to Column 3 with a new footnote indicating that “STOP-BRAKE FAILURE” applies to vehicles without split brake systems.

NHTSA notes that the phrase “may include Stop Lamp failure” does not refer to the FMVSS No. 105 warning, but instead came from melding European Union (EU) directives with FMVSS No. 101. In this final rule, “may include Stop Lamp failure” is removed. NHTSA has decided not to add this to Column 3.

“Antilock brake system malfunction for vehicles subject to FMVSS 105 or 135” and “Malfunction in antilock system for vehicles other than trailers subject to FMVSS No. 121”—The Alliance said that these two telltales appear to be redundant, and suggested that by adding a reference to FMVSS No. 121 in the “Antilock brake system malfunction for vehicles subject to FMVSS 105 or 135” item, the “Malfunction in antilock system for vehicles other than trailers subject to FMVSS No. 121” item may be removed. The Alliance also suggested adding parentheses ¹ for consistency with the rest of Table 1.

¹ So that the combined item reads: “Antilock brake system malfunction (for vehicle subject to FMVSS 105, 121 or 135).”

NHTSA has decided not to make these changes. The two referenced items are not redundant. Each item refers to different vehicles and Column 3 in each item, while similar, are not identical. The parentheses will also not be added because the phrases in Column 1 indicate why two different lines are used in Table 1. These phrases are part of the name of the item.

Antilock brake system trailer fault for vehicles subject to FMVSS 121—TMA petitioned for the use of one of two specified symbols (described in its petition) as an identifier for the trailer antilock braking system (ABS) warning telltale, in lieu of “Trailer ABS” or “Trailer Antilock,” the words specified in the August 17, 2005 final rule. TMA stated that a symbol is necessary for harmonization with Canada. Under Canadian regulations, if words are used, they must be stated in both English and French. TMA stated that words in dual languages would take up too much space on the truck instrument panel. TMA further stated that each of trailer antilock braking system (ABS) warning telltales they described “have been accepted by both Canadian officials and truck operators.”

NHTSA notes that one of the symbols described in TMA's petition is a symbol that had been proposed by NHTSA in the FMVSS No. 101 notice of proposed rulemaking published on September 23, 2003 (68 FR 55217). The symbol at issue appears at 68 FR 55229, in row 9, column 2. Column 1 describes the item as “Antilock brake system trailer fault.”

After considering TMA's petition, NHTSA has decided to adopt the symbol. NHTSA is aware that in commenters to the September 2003 NPRM cautioned against the use of symbols that are not intuitively evident. The symbol we are adopting should not be of concern for the following reasons. First, since this symbol will only appear on commercial vehicles, it will be seen only by drivers with commercial drivers' licenses (CDLs), not by ordinary drivers. Second, the symbol suggested by the TMA is already used on many tractor trailers, and so should be familiar to drivers with CDLs.² Third, NHTSA is providing in effect more than a seven year lead time for use of the symbol and/or the words “Trailer ABS” or “Trailer Antilock.” This leadtime should be enough time for CDL drivers to become familiar with the symbol and/or the words.

² “Warning Assessment of Antilock Brake System (ABS) Malfunction Indicator Lamp Status—A Snapshot of In-Service Vehicles,” Final Report DOT-FMCSA-MCP/PSV-05-003, January 2005.

We note that the symbol will be described in Column 1 as “Antilock brake system trailer fault for vehicles subject to FMVSS 121.” As provided in Column 3, at the manufacturer's option, the words “Trailer ABS” or “Trailer Antilock” may be used in lieu of the symbol. The manufacturer is permitted to use both the symbol and the English words specified in column 3.

The Alliance also suggested adding parentheses to this item ³, to make it consistent with the Antilock brake system malfunction for vehicles subject to FMVSS 105 or 135 item and the Malfunction in antilock system for vehicles other than trailers subject to FMVSS 121 item.

³ So that the item reads: “Antilock brake system trailer fault (for vehicles subject to FMVSS 121).”

NHTSA has decided not to add parentheses to this item. The phrases in Column 1 indicate why two different lines are used in Table 1. These phrases are part of the name of the item.

Brake lining wear-out condition (for vehicles subject to FMVSS 105 or 135)—The Alliance noted that although this item references FMVSS No. 105, brake lining requirements are only specified in FMVSS No. 135. Thus, the Alliance recommended removing the reference to FMVSS 105. In addition, the Alliance recommended that footnote 3 ⁴ be applied to this item.

⁴ NHTSA believes the reference to footnote 3 (“Blue may be blue-green. Red may be red-orange.”) is an error, and the Alliance meant to refer to footnote 8 (“Refer to FMVSS 105 or FMVSS 135, as appropriate, for additional specific requirements for brake telltale labeling and color. If a single telltale is used to indicate more than one brake system condition, the brake system malfunction indicator must be used.”).

NHTSA agrees with the Alliance on these issues and will make the changes in Table 1 in the final rule. Footnote 8 in the August 17, 2005 final rule is footnote 9 in today's final rule.

Automatic vehicle speed (cruise control)—The Alliance noted that the automatic vehicle speed item includes “(cruise control).” The Alliance recommended that this item revert to the way this control is specified in the pre-August 17, 2005 Table 1.

NHTSA does not believe there is a need to make this change. The term “cruise control” serves to clarify the meaning of “automatic vehicle speed” control. “Cruise control” is the name by which most American drivers know the “automatic vehicle speed” control. “Cruise control” appears parenthetically in Column 1, which is only the name of the item, not the required identifier (which would be specified in Column 3).

Automatic transmission control position or Park, Reverse, Neutral, Drive (PRND) Indentifiers—Table 1 includes in column 1, the item “Automatic transmission control position” with the words “(park)”, “(reverse)”, “(neutral)”, and “(drive)” listed vertically next to it. In column 3 are the abbreviations “P”, “R”, “N”, “D” listed vertically. The automatic transmission control position is an indicator. A footnote accompanying the abbreviation “PRND” states:

Letter ‘D’ may be replaced by other alphanumeric character or symbol chosen by the manufacturer. The indicators may be displayed top to bottom, or left to right, or both.

The Alliance stated that it was confused by the new footnote. The Alliance correctly pointed out that automatic transmission control position is regulated in FMVSS No. 102, Transmission shift position sequence, starter interlock, and transmission braking effect. FMVSS No. 102 does not specify specific labels for each transmission position, but specifies that a neutral position shall be located between drive and reverse and, if a column-mounted lever is used, movement from neutral to drive must be clockwise. If a park position is provided, it must be “at the end, adjacent to the reverse” position. The pre-August 17, 2005 version of FMVSS No. 101 only required that the “automatic gear position” be illuminated and did not specify identifiers for the positions or the indicator as a whole. The specification for the automatic transmission control position in the final rule is identical to that proposed in the NPRM. No commenter objected to the automatic transmission control position proposed in the NPRM.

In its petition for reconsideration, the Alliance stated:

* * * several vehicle manufacturers have issues with limiting the orientation of the control position (PRND). With the introduction of shift-by-wire technology, some vehicle manufacturers have already introduced this technology and identified a separate lever of the steering column dedicated to the automatic transmission control position (PRND) with the following orientations:

R | R | P-R
P-N | N-P | N
D | D | D

The Alliance asked if any of the PRND orientations described above would not be permitted in the new FMVSS No. 101 final rule, and how automatic transmissions without a park position are to be identified.⁵ The Alliance also petitioned that Table 1 be amended to list only “P”, “R” and “N”, since NHTSA already allows manufacturers to substitute a letter or graphic of their choice for “D”.

⁵ The Alliance appears to be asking for an interpretation of transmission shift positions, regulated in FMVSS No. 102, Transmission shift position sequence, starter interlock, and transmission braking effect. We note that in an August 1, 2002 interpretation letter to Lemförder Corporation, NHTSA addressed shift positions that include a “park” position, specifically addressing S3.1.1 that states: “if the transmission shift lever sequence includes a park position, it shall be located at the end, adjacent to the reverse drive position.”

In response to the Alliance's petition, NHTSA will amend the footnote accompanying the automatic transmission control position item ⁶ in Table 1 to:

⁶ Which will be designated as footnote 13.

The letters “P”, “R”, “N”, and “D” are considered separate identifiers for the gear positions, park, reverse, neutral and drive, respectively. The locations of these gear positions, within the vehicle and with respect to each other, are governed by FMVSS No. 102. The letter “D” may be replaced by another alphanumeric character or symbol chosen by the manufacturer.

NHTSA will not change the “PRND” abbreviation in column 3 because it is highly recognized by drivers.⁷ Changing it to “PRN” may mislead some to believe it refers to an item other that the automatic transmission control position.

⁷ See “Comprehension Testing for In-vehicle Symbols”; Campbell et al, Battelle Human Factors Transportation Center for The Alliance of Automobile Manufacturers; September 7, 2005.

Low Tire Pressure (including malfunction) (see FMVSS 138), Low Tire Pressure (including malfunction) that identifies involved tire (See FMVSS 138) and Tire Pressure Monitoring System Malfunction (See FMVSS 138)—The Alliance recommended that the parenthetical phrase “(including malfunction)” for two of the items be removed from Column 1, and referred to in a footnote, as part of recommended changes to footnote 13.⁸ The Alliance noted that “Tire Pressure Monitoring System Malfunction (See FMVSS 138)” refers to footnote 14.⁹ The Alliance stated its belief that the reference to “(see FMVSS 138)” was sufficient and suggested combining footnotes 13 and 14 into one footnote that would read:

⁸ In Table 1 published on August 17, 2005, footnote 13 stated: “Required only for FMVSS compliant vehicles.”

⁹ In Table 1 published on August 17, 2005, footnote 14 stated: “Alternatively, either low tire pressure telltale may be used to indicate a TPMS malfunction. See FMVSS 138.”

Required only for FMVSS 138 compliant vehicles. Alternatively, either low tire pressure telltale may be used to indicate a TPMS malfunction.

NHTSA has decided not to make changes to “Low Tire Pressure (including malfunction) (See FMVSS 138),” to “Low Tire Pressure (including malfunction) that identifies involved tire (See FMVSS 138)” or to “Tire Pressure Monitoring System Malfunction (See FMVSS 138)” items. There are three items related to tire pressure monitoring in the August 17, 2005 final rule because differing phase-in dates for FMVSS No. 138, Tire pressure monitoring systems (TPMS) may make simultaneously available, both vehicles with TPMS that meet FMVSS No. 138 and vehicles with TMPS that are not required to meet FMVSS No. 138. Depending on the FMVSS No. 138 compliance status of the vehicle, the tire pressure monitoring item from Table 1 used in the vehicle will differ.

Footnote 11—In Table 1 in the August 17, 2005 final rule, Footnote 11 accompanied the Speedometer item. Footnote 11 stated: “If the speedometer is graduated in miles per hour and in kilometers per hour, the identification must be “MPH and km/h” in any combination of upper and lowercase letters.” The Alliance recommended that “MPH and km/h” be amended to read “ ‘MPH’ and ‘km/h’.”

NHTSA agrees with the Alliance's recommendation. In the final rule, in Table 1, the footnote, which is now designated as footnote 12, reads: “If the speedometer is graduated in both miles per hour and kilometers per hour, the scales must be identified “MPH” and “km/h”, respectively, in any combination of upper and lower case letters.”

G. Table 2

The Alliance also petitioned for changes to the following two items in Table 2:

Odometer—For the odometer item, the Alliance petitioned to add a footnote stating that the letters may be any combination of upper and lower case. NHTSA concurs. Therefore, in this final rule, the odometer item in Table 2 will include a footnote 2 that reads: “Any combination of upper- or lowercase letters may be used.”

Headlamps and Taillamps Control—In the August 17, 2005 final rule, the headlamps and taillamps control, in Table 2, included footnote 3 which reads: “If a line appears in Column 2 and Column 3, the Control, Telltale or Indicator is required to be identified, however the form of the identification is the manufacturer's option” and footnote 4 which reads: “Separate identification not required if function is combined with Master Lighting Switch.” The Alliance suggested that if footnotes 3 and 4 are moved to Column 1, footnote 3 can be simplified. The Alliance apparently believes the “first sentence” is not necessary.

NHTSA has decided not to adopt the Alliance's suggested changes. We are not removing footnotes 3 and 4 for the headlamps and taillamps control item, since the footnotes refer to the words or abbreviations needed to identify the item.

III. Leadtime

In the final rule; delay of effective date document of January 24, 2006, NHTSA delayed the effective date of the FMVSS No. 101 final rule to September 1, 2006. Subsequently, in a document dated March 10, 2006, the AIAM petitioned for reconsideration of the January 24, 2006 final rule, primarily asking that NHTSA address the issues in the petitions for reconsideration by the AIAM and other petitioners by September 1, 2006 and publish “as soon as possible prior to September 1 a notice establishing a more appropriate effective date, consistent with the pending petitions.”

In this document, we address AIAM's concerns. This final rule; response to petitions for reconsideration is published well in advance of September 1, 2006. In addition, as earlier explained, so that this final rule can be implemented at minimal cost, we are providing a little more than five years' leadtime to implement S5.4.3, “Each symbol used for the identification of a telltale, control or indicator must be in a color that stands out clearly against the background.” Today's final rule amends the FMVSS No. 101 final rule published on August 17, 2005 and becomes effective September 1, 2006, for vehicles under 10,000 pounds. The compliance date for S5.4.3 is September 1, 2011.

IV. Statutory Bases for the Rulemaking

We have issued this final rule pursuant to our statutory authority. Under 49 U.S.C. Chapter 301, Motor Vehicle Safety (49 U.S.C. 30101 et seq.), the Secretary of Transportation is responsible for prescribing motor vehicle safety standards that are practicable, meet the need for motor vehicle safety, and are stated in objective terms. 49 U.S.C. 30111(a). When prescribing such standards, the Secretary must consider all relevant, available motor vehicle safety information. 49 U.S.C. 30111(b). The Secretary must also consider whether a proposed standard is reasonable, practicable, and appropriate for the type of motor vehicle or motor vehicle equipment for which it is prescribed and the extent to which the standard will further the statutory purpose of reducing traffic accidents and deaths and injuries resulting from traffic accidents. Id. Responsibility for promulgation of Federal motor vehicle safety standards was subsequently delegated to NHTSA. 49 U.S.C. 105 and 322; delegation of authority at 49 CFR 1.50.

As a Federal agency, before promulgating changes to a Federal motor vehicle safety standard, NHTSA also has a statutory responsibility to follow the informal rulemaking procedures mandated in the Administrative Procedure Act at 5 U.S.C. 553. Among these requirements are Federal Register publication of a general notice of proposed rulemaking, and giving interested persons an opportunity to participate in the rulemaking through submission of written data, views or arguments. After consideration of the public comments, we must incorporate into the rules adopted, a concise general statement of the rule's basis and purpose.

The agency has carefully considered these statutory requirements in promulgating this final rule to amend FMVSS No. 101. As previously discussed in detail, we have solicited public comment in an NPRM and have carefully considered the public comments before issuing this final rule. As a result, we believe that this final rule reflects consideration of all relevant available motor vehicle safety information. Consideration of all these statutory factors has resulted in the following decisions in this final rule. In this final rule, NHTSA permits use of a symbol suggested by the TMA in lieu of the words “Trailer ABS” or “Trailer Antilock” in identifying the “Antilock brake system trailer fault for vehicles subject to FMVSS 121” telltale, does not require manufacturers to provide a means to shut off various sources of interior illumination based on light emitting diodes, and agrees to changes to Tables 1 and 2 suggested by the Alliance. This final rule requires symbols to be “substantially similar in form to the symbol as it appears in Table 1 or Table 2” and for the horn symbol to have a color contrast with its background. So that the color contrast requirement can be implemented at minimal cost to industry, for vehicles with a GVWR under 10,000 pounds, this final rule delays from September 1, 2006 to September 1, 2011, the effective date for the FMVSS No 101 final rule published on August 17, 2005. For vehicles under 10,000 pounds, the changes made in today's final rule will also take effect on September 1, 2011. Also, because the safety benefits of this final rule are very small, there will be no measurable effect on safety as a result of the delay in effective date.

As indicated, we have thoroughly reviewed the public comments and adopted a final rule in light of comments. In the instances where we did not adopt a comment, we explain why we did not adopt the comment.

V. Rulemaking Analyses and Notices

A. Executive Order 12866 and DOT Regulatory Policies and Procedures

Executive Order 12866, “Regulatory Planning and Review” (58 FR 51735, October 4, 1993), provides for making determinations whether a regulatory action is “significant” and therefore subject to Office of Management and Budget (OMB) review and to the requirements of the Executive Order. The Order defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations or recipients thereof; or

(4) Raise novel legal or policy issues arising out of legal mandates, the President's priorities, or the principles set forth in the Executive Order.

We have considered the impact of this rulemaking action under Executive Order 12866 and the Department of Transportation's regulatory policies and procedures. This rulemaking document was not reviewed by the Office of Management and Budget under E.O. 12866, “Regulatory Planning and Review.” The rulemaking action is also not considered to be significant under the Department's Regulatory Policies and Procedures (44 FR 11034; February 26, 1979).

For the following reasons, NHTSA concludes that this final rule will not have any quantifiable cost effect on motor vehicle manufacturers. In this final rule, NHTSA permits the use of a symbol suggested by the TMA in lieu of the words “Trailer ABS” or “Trailer Antilock” in identifying the “Antilock brake system trailer fault for vehicles subject to FMVSS 121” telltale, does not require manufacturers to provide a means to shut off various sources of interior illumination based on light emitting diodes, and agrees to changes to Tables 1 and 2 suggested by the Alliance. This final rule requires symbols to be “substantially similar in form to the symbol as it appears in Table 1 and Table 2” and for the horn symbol to have a color contrast with its background. So that the color contrast requirement can be implemented at minimal cost to industry, for vehicles with a GVWR under 10,000 pounds, this final rule delays from September 1, 2006 to September 1, 2011, the compliance date for S5.4.3 “Each symbol used for the identification of a telltale, control or indicator must be in a color that stands out clearly against the background.” There will be no measurable effect on safety as a result of this delay in compliance date for S5.4.3.

Because the economic effects of this final rule are so minimal, no further regulatory evaluation is necessary.

B. Regulatory Flexibility Act

Pursuant to the Regulatory Flexibility Act (5 U.S.C. 601 et seq., as amended by the Small Business Regulatory Enforcement Fairness Act (SBREFA) of 1996), whenever an agency is required to publish a notice of rulemaking for any proposed or final rule, it must prepare and make available for public comment a regulatory flexibility analysis that describes the effect of the rule on small entities (i.e., small businesses, small organizations, and small governmental jurisdictions). The Small Business Administration's regulations at 13 CFR part 121 define a small business, in part, as a business entity “which operates primarily within the United States.” (13 CFR 121.105(a)). No regulatory flexibility analysis is required if the head of an agency certifies that the rule will not have a significant economic impact on a substantial number of small entities. The SBREFA amended the Regulatory Flexibility Act to require Federal agencies to provide a statement of the factual basis for certifying that a rule will not have a significant economic impact on a substantial number of small entities.

I have considered the effects of this rulemaking action under the Regulatory Flexibility Act (5 U.S.C. 601 et seq.) and certify that this final rule will not have a significant economic impact on a substantial number of small entities. The statement of the factual basis for the certification is that for vehicles under 10,000 pounds GVWR, this final rule delays until September 1, 2011, the compliance date of a provision in the final rule published on August 17, 2005, that requires symbols used in identification of telltales, controls or indicators to be in a color that “stands out clearly against the background.” As earlier stated, small business manufacturers will incur costs that are so minimal as to be unquantifiable as a result of this final rule.

For these reasons, and for the reasons described in our discussion on Executive Order 12866 and DOT Regulatory Policies and Procedures, NHTSA concludes that this final rule will not have a significant economic impact on a substantial number of small entities.

C. National Environmental Policy Act

NHTSA has analyzed this rulemaking action for the purposes of the National Environmental Policy Act. The agency has determined that implementation of this action will not have any significant impact on the quality of the human environment.

D. Executive Order 13132 (Federalism)

NHTSA has analyzed this rule in accordance with the principles and criteria set forth in Executive Order 13132, Federalism and has determined that it does not have sufficient Federalism implications to warrant consultation with State and local officials or the preparation of a Federalism summary impact statement. The rule will not have any substantial impact on the States, or on the current Federal-State relationship, or on the current distribution of power and responsibilities among the various local officials.

E. Executive Order 12988 (Civil Justice Reform)

Pursuant to Executive Order 12988 “Civil Justice Reform,” we have considered whether this final rule would have any retroactive effect. NHTSA concludes that this final rule will not have any retroactive effect. Under 49 U.S.C. 30103, whenever a Federal motor vehicle safety standard is in effect, a State may not adopt or maintain a safety standard applicable to the same aspect of performance which is not identical to the Federal standard, except to the extent that the state requirement imposes a higher level of performance and applies only to vehicles procured for the State's use. 49 U.S.C. 30161 sets forth a procedure for judicial review of final rules establishing, amending, or revoking Federal motor vehicle safety standards. That section does not require submission of a petition for reconsideration or other administrative proceedings before parties may file suit in court.

F. Paperwork Reduction Act

Under the Paperwork Reduction Act of 1995, a person is not required to respond to a collection of information by a Federal agency unless the collection displays a valid Office of Management and Budget (OMB) control number. This final rule does not require any collections of information, or recordkeeping or retention requirements as defined by the OMB in 5 CFR part 1320.

G. National Technology Transfer and Advancement Act

Section 12(d) of the National Technology Transfer and Advancement Act of 1995 (NTTAA), Public Law 104-113, section 12(d) (15 U.S.C. 272) directs NHTSA to use voluntary consensus standards in its regulatory activities unless doing so would be inconsistent with applicable law or otherwise impractical. Voluntary consensus standards are technical standards (e.g., materials specifications, test methods, sampling procedures, and business practices) that are developed or adopted by voluntary consensus standards bodies, such as the Society of Automotive Engineers (SAE). The NTTAA directs the agency to provide Congress, through the OMB, explanations when we decide not to use available and applicable voluntary consensus standards.

After conducting a search of available sources, we have determined that there is no applicable voluntary consensus standard for this final rule.

H. Unfunded Mandates Reform Act

Section 202 of the Unfunded Mandates Reform Act of 1995 (UMRA) requires Federal agencies to prepare a written assessment of the costs, benefits, and other effects of proposed or final rules that include a Federal mandate likely to result in the expenditure by State, local or tribal governments, in the aggregate, or by the private sector, of more than $100 million in any one year (adjusted for inflation with base year of 1995). Before promulgating a rule for which a written statement is needed, section 205 of the UMRA generally requires NHTSA to identify and consider a reasonable number of regulatory alternatives and adopt the least costly, most cost-effective, or least burdensome alternative that achieves the objectives of the rule. The provisions of section 205 do not apply when they are inconsistent with applicable law. Moreover, section 205 allows NHTSA to adopt an alternative other than the least costly, most cost-effective or least burdensome alternative if the agency publishes with the final rule an explanation why that alternative was not adopted.

This rule will not result in the expenditure by State, local, or tribal governments, in the aggregate, or by the private sector of more than $100 million annually. Accordingly, this rule is not subject to the requirements of sections 202 and 205 of the UMRA.

I. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

List of Subjects in 49 CFR Part 571

Imports, Motor vehicle safety, Motor vehicles, Rubber and rubber products, and Tires.

In consideration of the foregoing, NHTSA amends 49 CFR part 571 as follows:

PART 571—FEDERAL MOTOR VEHICLE SAFETY STANDARDS

1. The authority citation for part 571 continues to read as follows:

Authority: 49 U.S.C. 322, 30111, 30115, 30166, and 30177; delegation of authority at 49 CFR 1.50.

2. In § 571.101, the second sentence of S5.2.1, paragraph (b) and the introductory text of paragraph (d) of S5.3.2.2, S5.3.4, S5.5.2, and Tables 1 and 2 are revised, and a new sentence is added to the end of S5.4.3 to read as follows:

§ 571.101 Standard No. 101, Controls, telltales, and indicators.

* * * * *

S5.2.1 * * * If a symbol is used, each symbol provided pursuant to this paragraph must be substantially similar in form to the symbol as it appears in Table 1 or Table 2. * * *

S5.3.2.2 * * *

* * * * *

(b) At a level of brightness other than the highest level, the identification of controls and indicators must be barely discernible to the driver who has adapted to dark ambient roadway condition;

* * * * *

(d) May have levels of brightness, other than the two required visible levels of brightness, at which those items and identification are not visible.

* * * * *

S5.3.4 Brightness of interior lamps. (a) Any source of illumination within the passenger compartment which is forward of a transverse vertical plane 110 mm rearward of the manikin “H” point with the driver's seat in its rearmost driving position, which is not used for the controls and displays regulated by this standard, which is not a telltale, and which is capable of being illuminated while the vehicle is in motion, shall have either:

(1) Light intensity which is manually or automatically adjustable to provide at least two levels of brightness;

(2) A single intensity that is barely discernible to a driver who has adapted to dark ambient roadway conditions;or

(3) A means of being turned off.

(b) Paragraph (a) of S5.3.4 does not apply to buses that are normally operated with the passenger compartment illuminated.

* * * * *

S5.4.3 * * * For vehicles with a GVWR of under 4,536 kg (10,000 pounds), the compliance date for this provision is September 1, 2011.

* * * * *

S5.5.2 The telltales for any brake system malfunction required by Table 1 to be red, air bag malfunction, low tire pressure, passenger air bag off, high beam, turn signal, and seat belt must not be shown in the same common space.

* * * * *

BILLING CODE 4910-59-P

Issued on: May 9, 2006.
Jacqueline Glassman,
Deputy Administrator.

[FR Doc. 06-4478 Filed 5-12-06; 8:45 am]

BILLING CODE 4910-59-C